ENVIRONMENTAL PROTECTION AGENCY

[FRL-9695-7]

Request for Nominations to the Great Lakes Advisory Board (GLAB)

AGENCY: Environmental Protection Agency (EPA).

ACTION: Request for nominations to the Great Lakes Advisory Board (GLAB).

SUMMARY: The U.S. Environmental Protection Agency (EPA) is seeking nominations from a diverse range of qualified candidates to be considered for appointment as members of its Great Lakes Advisory Board (GLAB). The GLAB will provide advice and recommendations to the EPA Administrator, in her capacity as Chair of the Great Lakes Interagency Task Force, on matters pertaining to Great Lakes restoration and protection. Vacancies are expected to be filled by September 2012. Sources in addition to this Federal Register Notice may be used in the solicitation of nominees.

DATES: Nominations must be postmarked by July 30, 2012.

ADDRESSES: Submit nominations electronically with the subject line “GLAB Nomination 2012” to cestaric.rita@epa.gov. You may also submit nominations by mail to: Rita Cestaric, Designated Federal Officer, US Environmental Protection Agency, Great Lakes National Program Office, 77 W. Jackson Boulevard, Chicago, Illinois 60604.

FOR FURTHER INFORMATION CONTACT: Rita Cestaric, Designated Federal Officer, US Environmental Protection Agency, 77 W. Jackson, Chicago, IL 60604; email address: cestaric.rita@epa.gov; telephone number: (312) 886-6815.

SUPPLEMENTARY INFORMATION: On May 31, 2012, EPA published in the Federal Register a notice of intent to establish the GLAB under the authority of the Federal Advisory Committee Act (FACA), Public Law 92-463. The GLAB will provide advice and recommendations to the EPA Administrator, in her capacity as Chair of the Great Lakes Interagency Task Force, on matters pertaining to Great Lakes restoration and protection. The GLAB will conduct business in accordance with FACA and related regulations.

The GLAB will be composed of approximately 15 members appointed by the EPA Administrator. In selecting members, EPA will consider candidates representing or serving as liaison to a broad range of interests across the Great Lakes, that may include, but are not limited to, environmental groups, business, agricultural groups, youth groups, foundations, environmental justice groups, academia and state, local and tribal governments. Members will be appointed for two year terms and are eligible for reappointment.

The GLAB will meet approximately two times a year. Additionally, members may be asked to participate in teleconference meetings. The average workload for members will be approximately 4 to 6 hours per month. We are unable to provide honoraria or compensation for service on the GLAB. However, you may receive travel and per diem allowances where appropriate and according to applicable federal travel regulations.

Nominations: The EPA welcomes and values diversity. In an effort to obtain nominations of diverse candidates, the agency encourages nominations of women and men of all racial and ethnic groups. All nominations will be fully considered, but applicants need to be aware of the specific representation sought as outlined in the SUPPLEMENTARY INFORMATION section above.

Other criteria used to evaluate nominees will include:

• The background and experiences that would help members contribute to the diversity of perspectives on the GLAB (e.g., economic, social, cultural, educational background, professional affiliations and other considerations);

• Demonstrated experience with Great Lakes issues;

• Leadership experience in Great Lakes organizations, businesses and workgroups;

• Excellent interpersonal and consensus-building skills;

• Ability to volunteer time to attend approximately two in-person meetings a year, participate in teleconference meetings, attend listening sessions with senior-level federal officials, develop policy recommendations and prepare reports and letters of advice; and

• Willingness to commit time to the committee and demonstrated ability to work constructively and effectively on committees.

How to Submit Nominations: Any interested person or organization may nominate qualified persons to be considered for appointment to the GLAB. Individuals may self-nominate. Nominations can be submitted in electronic format (preferred) or in hard copy format (see ADDRESSES section above). To be considered, nominations should include:

• Current contact information for the nominee, including the nominee's name, organization (and position within that organization), current business address, email address and daytime phone number;

• Brief statement describing the nominee's interest in serving on the GLAB;

• Resume and a short biography (no more than two paragraphs) describing the professional and educational qualifications of the nominee, including a list of relevant activities and any current or previous service on advisory committees; and

• Letter(s) of recommendation from a third party supporting the nomination. Letter(s) should describe how the nominee's experience and knowledge will bring value to the work of the GLAB.

To help the Agency in evaluating the effectiveness of its outreach efforts, please tell us how you learned of this opportunity.

Dated: June 21, 2012.
Susan Hedman,
Great Lakes National Program Manager.

[FR Doc. 2012-16056 Filed 6-28-12; 8:45 am]

BILLING CODE 6560-50-P